DEPARTMENT OF STATE

[Public Notice 5788]

Culturally Significant Objects Imported for Exhibition Determinations: “The Baroque World of Fernando Botero”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “The Baroque World of Fernando Botero”, imported from abroad for temporary exhibition within the United States, are of cultural significance. The objects are imported pursuant to a loan agreement with the foreign owner or custodian. I also determine that the exhibition or display of the exhibit objects at the San Antonio Museum of Art, San Antonio, Texas, from on or about May 26, 2007, until on or about August, 19, 2007, the Oklahoma City Museum of Art, Oklahoma City, Oklahoma, from on or about September 15, 2007, until on or about December 9, 2007, the Society of the Four Arts, Palm Beach, Florida, from on or about January 18, 2008, until on or about February 24, 2008, the Delaware Art Museum, Wilmington, Delaware, from on or about March 15, 2008, until on or about June 7, 2008, the New Orleans Museum of Art, New Orleans, Louisiana, from on or about June 28, 2008, until on or about September 21, 2008, the Memphis Brooks Museum of Art, Memphis, Tennessee, from on or about October 18, 2008, until on or about January 11, 2009, the Colorado Springs Fine Arts Center, Colorado Springs, Colorado, from on or about May 23, 2009, until on or about August 15, 2009, the Crocker Art Museum, Sacramento, California, from on or about September 12, 2009, until on or about December 6, 2009, and at possible additional exhibitions or venues yet to be determined, is in the national interest. Public Notice of these Determinations is ordered to be published in the Federal Register.

FOR FURTHER INFORMATION CONTACT: For further information, including a list of the exhibit objects, contact Paul Manning, Attorney-Adviser, Office of the Legal Adviser, U.S. Department of State (telephone: (202) 453-8050). The address is U.S. Department of State, SA-44, 301 4th Street, SW., Room 700, Washington, DC 20547-0001.

Dated: April 26, 2007.
C. Miller Crouch,
Principal Deputy Assistant Secretary for Educational and Cultural Affairs, Department of State.

[FR Doc. E7-8476 Filed 5-2-07; 8:45 am]

BILLING CODE 4710-05-P